NATIONAL AERONAUTICS AND SPACE ADMINISTRATION

[Notice (02-115)]

Government-Owned Inventions, Available for Licensing

ACTION: Notice of availability of inventions for licensing.

SUMMARY: The inventions listed below are assigned to the National Aeronautics and Space Administration, have been filed in the United States Patent and Trademark Office, and are available for licensing.

DATES: September 27, 2002.

FOR FURTHER INFORMATION CONTACT: Edward Fein, Patent Counsel, Johnson Space Center, Mail Code HA, Houston, TX 77058-3696, telephone (281) 483-4871; fax (281) 244-8452.

NASA Case No. MSC-23178-1: Deceleration-Limiting Roadway Barrier;

NASA Case No. MSC-23193-1: Passive Tracking System and Method;

NASA Case No. MSC-23307-1: Detector Apparatus And Method;

NASA Case No. MSC-22980-2: Bubble Monitoring Apparatus;

NASA Case No. MSC-22980-3: Bubble Testing System;

NASA Case No. MSC-22980-4: Tissue Phantom Testing System;

NASA Case No. MSC-22980-5: Bubble Generating Testing System;

NASA Case No. MSC-23309-1: Method And Apparatus For Monitoring Oxygen Partial Pressure In Air Masks;

NASA Case No. MSC-22839-1: Locating Concealed Objects Using Spectral Signatures;

NASA Case No. MSC-22953-2: Method And Apparatus For Reducing The Vulnerability Of Latches To Single Event Upsets;

NASA Case No. MSC-22953-3: Method And Apparatus For Reducing The Vulnerability Of Latches To Single Event Upsets;

NASA Case No. MSC-22970-2: Solar Powered Refrigeration System;

NASA Case No. MSC-22970-3: Solar Powered Refrigeration System;

NASA Case No. MSC-23092-1: Advanced, Large Volume, Highly Loaded, Hybrid Inflatable Pressure Vessel;

NASA Case No. MSC-23228-1: Distributed Antenna System And Method;

NASA Case No. MSC-23154-1: A Real-Time High Frequency QRS Electrocardiograph;

NASA Case No. MSC-23311-1: Mass Measurement During Fluid Flow Using An Integrated Sonic/Microwave Detector.

Dated: September 20, 2002.
Robert M. Stephens,
Deputy General Counsel.

[FR Doc. 02-24529 Filed 9-26-02; 8:45 am]

BILLING CODE 7510-01-P